DEPARTMENT OF EDUCATION

Notice of Proposed Information Collection Requests

AGENCY: Department of Education (ED).

ACTION: Notice of proposed information collection requests.

SUMMARY: The Acting Director, Information Collection Clearance Division, Privacy, Information and Records Management Services, Office of Management, invites comments on the proposed information collection requests as required by the Paperwork Reduction Act of 1995.

DATES: An emergency review has been requested in accordance with the Act (44 U.S.C. chapter 3507(j)), since public harm is reasonably likely to result if normal clearance procedures are followed. Approval by the Office of Management and Budget (OMB) has been requested by May 31, 2011. A regular clearance process is also beginning. Interested persons are invited to submit comments on or before June 27, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Acting Director, Information Collection Clearance Division, Privacy, Information and Records Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: April 25, 2011.
James Hyler,
Acting Director, Information Collection Clearance Division, Privacy, Information and Records Management Services, Office of Management.

Office of the Secretary

Type of Review: New.

Title of Collection: Race to the Top Annual Performance Report.

OMB Control Number(s): 1894-NEW.

Frequency of Responses: Annually.

Affected Public: State, Local, or Tribal Government, State Educational Agencies or Local Educational.

Total Estimated Number of Annual Responses: 12.

Total Estimated Number of Annual Burden Hours: 1,452.

Abstract: In order to fulfill our responsibilities for programmatic oversight and public reporting, the Department has developed a Race to the Top Annual Performance Report that is tied directly to the Race to the Top selection programmatic requirements previously established and published in the Federal Register. The report is grounded in the key performance targets included in grantees' approved Race to the Top plans. Grantees will be required to report on their progress in the four core education reform areas: Science, Technology, Engineering, and Mathematics. This reporting includes narrative sections on progress and key performance indicators. As was the case in the completion of the Race to the Top applications, grantees will coordinate with Local Educational Agencies (LEAs) to collect and report on school and district-level data elements.

In order to robustly fulfill our programmatic and fiscal oversight responsibilities, it is essential that we gather this data from Race to the Top grantees and subgrantees as soon as possible to inform decision-making for the second year of the grant. The Race to the Top Annual Performance Report data will be used as a component of the comprehensive program review process (for which the comment period just closed). In particular, the data informs both a stocktake (meeting) with Race to the Top leadership that will be focused on assessing grantee progress and pinpointing areas requiring technical assistance as well as State-specific and comprehensive reports that will update the public and Congress about Race to the Top. It is in the public interest to present the data in a timely manner.

Additional Information: Pursuant to 5 CFR 1320.13(a)(2)(iii), the Department is requesting emergency approval as the use of the normal clearance procedures will disrupt the timely collection of the information critical for managing the performance of Race to the Top grants and effectiveness. This is the first year of implementation of a $4 billion dollar program, the largest discretionary grant program ever administered by the Department. As a result, the program continues to generate high public interest.

If the routine paperwork processing timeline is followed, the Race to the Top Annual Performance Report data collection tool will not be released until August. Given that many LEAs begin the school year in August; this timing would create an undue burden on the LEAs and on the State. During the process of developing the Race to the Top Annual Performance Report, we elicited feedback from grantees regarding the timing of collection. Based on that feedback, we believe that a June timeframe would best meet the needs of the grantees and the Department.

Copies of the proposed information collection request may be accessed from http://edicsweb.ed.gov, by selecting the “Browse Pending Collections” link and by clicking on link number 4576. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov 202-260-8916. Individuals who use a telecommunications device for the deaf (TDD) may call the Federal Information Relay Service (FIRS) at 1-800-877-8339.

[FR Doc. 2011-10301 Filed 4-27-11; 8:45 am]

BILLING CODE 4000-01-P